DEPARTMENT OF THE INTERIOR

Bureau of Land Management

[NM010-1430-ER]

Reverse Emergency Closure Within the Ojito Special Management Area in Sandoval County, NM

AGENCY: Bureau of Land Management, Interior.

ACTION: Notice.

SUMMARY: Notice is hereby given that effective September 21, 2004, an area previously closed (60 FR, June 29, 1995) to mechanical vehicles is open. Mountain bikes (mechanical vehicles) are a recognized legal conveyance on approximately (5) sections of public land southwest of San Ysidro, New Mexico.

The area is located within sections 17, 20, 21, 28, & 29, T. 15 N., R. 1 E., New Mexico Principal Meridian.

The purpose of the 1995 closure was to prevent unnecessary degradation of resources and undue environmental damage. The notice stated that until further notice the area would remain closed to mechanical use. It has been determined mountain bikes are not a threat to the resources or the environment.

The reversal of the emergency closure is in accordance with the provisions of 43 CFR 8364.1. This order remains in effect until further notice.

FOR FURTHER INFORMATION CONTACT: Donna Dudley, Outdoor Recreation Planner at the Bureau of Land Management, Albuquerque Field Office, 435 Montano NE., Albuquerque, New Mexico 87107, (505) 761-8700.

SUPPLEMENTARY INFORMATION: Copies of this closure order and maps showing the location of the affected area are available at the Albuquerque Field Office, during normal business hours, Monday through Friday, 7:45 a.m. to 4:30 p.m.

Dated: June 29, 2004.
John E. Bristol,
Acting Assistant Field Manager.

[FR Doc. 04-21127 Filed 9-20-04; 8:45 am]

BILLING CODE 4310-FB-P